DEPARTMENT OF THE INTERIOR

Fish and Wildlife Service

[FWS-R2-ES-2009-N189; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before October 19, 2009.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave. SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-829996

Applicant: Houston Zoo, Houston, Texas.

Applicant requests an amendment to their current permit for research and recovery purposes to conduct presence/absence surveys of jaguarundi (Felis yagouaroundi cacomitli) within Texas.

Permit TE-051832

Applicant: The Phoenix Zoo, Phoenix, Arizona.

Applicant requests an amendment to a current permit to capture and breed Mt. Graham red squirrels (Tamiasciurus hudsonicus grahamensis) to be held in the zoo and eventually released back into the wild.

Permit TE-225730

Applicant: Scott Cutler, El Paso, Texas.

Applicant requests a new permit for education purposes to display skeletons and skins of salvaged California condors (Gymnogyps californianus) at the Centennial Museum within the University of Texas at El Paso.

Permit TE-226653

Applicant: The Arboretum at Flagstaff, Flagstaff, Arizona.

Applicant requests a new permit for research and recovery purposes to conduct presence/absence surveys of the following plants: sentry milk-vetch (Astragalus cremnophylax var. cremnophylax), Mancos milk-vetch (Astragalus humillimus), Arizona cliffrose (Purshia subintegra), and autumn buttercup (Ranunculus aestivalis) within New Mexico, Arizona, and Utah.

Permit TE-192855

Applicant: Amnis Opes Institute, LLC., Cornvallis, Oregon.

Applicant request a new permit for research and recovery purposes to conduct presence/absence surveys of humpback chub (Gila cypha) within the Colorado River, Arizona.

Authority: 16 U.S.C. 1531 et seq.

Dated: September 10, 2009.
Brian Millsap,
Regional Director, Southwest Region, Fish and Wildlife Service.

[FR Doc. E9-22377 Filed 9-16-09; 8:45 am]

BILLING CODE 4310-55-P